ENVIRONMENTAL PROTECTION AGENCY

[FRL-6884-8]

Agency Information Collection Activities: Proposed Collection; Comment Request; Reformulated Gasoline and Conventional Gasoline

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Reformulated Gasoline and Conventional Gasoline, (EPA ICR No. 1591.13, OMB Control No. 2060-0277, expiration date: 12-31-00). Before submitting the ICR to OMB for review and approval, EPA is soliciting comments on specific aspects of the proposed information collection as described below.

DATES: Comments must be submitted on or before December 12, 2000.

ADDRESSES: Transportation and Regional Programs Division, Office of Transportation and Air Quality, Office of Air and Radiation, Mail Code 6406J, U.S. Environmental Protection Agency, 1200 Pennsylvania Avenue, NW., Washington, DC 20460. A paper or electronic copy of the draft ICR may be obtained without charge by contacting the person listed below.

FOR FURTHER INFORMATION CONTACT: James W. Caldwell, (202) 564-9303, fax: (202) 565-2085, caldwell.jim@epa.gov.

SUPPLEMENTARY INFORMATION: Affected entities: Entities potentially affected by this action are those which produce, import, or distribute gasoline.

Title: Reformulated Gasoline and Conventional Gasoline: Requirements for Refiners, Oxygenate Blenders, and Importers of Gasoline; Requirements for Parties in the Gasoline Distribution Network (40 CFR part 80—subparts D, E and F), EPA ICR No. 1591.13, OMB Control No. 2060-0277, expiration date: 12-31-00.

Abstract: Gasoline combustion is the major source of air pollution in most urban areas. The Clean Air Act (Act) requires that gasoline dispensed in certain areas with severe air quality problems be reformulated to reduce toxic and ozone-forming (smog) emissions. The Act also requires that in the process of producing reformulated gasoline (RFG), dirty components removed in the reformulation process not be “dumped” into the remainder of the country's gasoline, known as conventional gasoline (CG). The EPA promulgated regulations at 40 CFR part 80 establishing standards for RFG and CG, as specified in the Act, and establishing mandatory reporting and recordkeeping requirements for demonstrating compliance and as an aid to enforcement. The primary requirements are to test each batch of gasoline for various properties, report the results to EPA, and demonstrate compliance with the standards on an annual basis. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates the respondent population at 75 RFG refineries, 25 RFG import facilities, 25 RFG oxygenate blenders, 225 CG refineries, 50 CG import facilities, 250 pipelines and terminals, 500 truckers, 19 independent laboratories, 20 auditors, and the RFG Survey Association, Inc. The typical RFG or CG respondent will have around 100 to 130 reports per year, depending primarily on the number of batches of gasoline involved. The total number of reports is estimated at 53,170 and the total burden at 101,585 hours. While this gives an average burden per report of about two hours, about 95% of the reports have an estimated burden of one hour. At $60 per hour, the labor cost is about $6 million. Most start-up costs were incurred at the start of the program in 1995. However, there is an estimated annualized capital cost for analysis equipment of $4.8 million. Annual operating and maintenance costs are estimated at about $5 million, and annual purchase of services costs are estimated at about $13 million. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 4, 2000.
Lori Stewart,
Acting Director, Transportation and Regional Programs Division.

[FR Doc. 00-26354 Filed 10-12-00; 8:45 am]

BILLING CODE 6560-50-P